DEPARTMENT OF THE INTERIOR

Fish and Wildlife Service

[FWS-R2-ES-2013-N089; FXES11130200000-145-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before July 17, 2014.

ADDRESSES: Wendy Brown, Chief, Recovery and Restoration Branch, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6665.

SUPPLEMENTARY INFORMATION:

Public Availability of Comments

The Act (16 U.S.C. 1531 et seq.) prohibits activities with endangered and threatened species unless a Federal permit allows such activities. Along with our implementing regulations in the Code of Federal Regulations (CFR) at 50 CFR 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-051832

Applicant: Phoenix Zoo, Phoenix, Arizona.

Applicant requests an amendment to a current permit for research and recovery purposes to conduct husbandry and propagation of San Bernardino (Pyrgulopsis bernardina) and Chupadera (Pyrgulopsis chupaderae) springsnails at the zoo in Arizona.

Permit TE-800900

Applicant: Lower Colorado River Authority, Austin, Texas.

Applicant requests a new permit for research and recovery purposes to conduct presence/absence surveys of the following species in Texas:

• Black-capped vireo (Vireo atricapilla)

• Golden-cheeked warbler (Dendroica chrysoparia)

• Houston toad (Bufo houstonensis)

• Interior least tern (Sterna antillarum)

• Northern aplomado falcon (Falco femoralis)

• Piping plover (Charadrius melodus)

• Southwestern willow flycatcher (Empidonax traillii extimus)

Permit TE-830177

Applicant: Anthony Amos, Port Aransas, Texas.

Applicant requests a renewal to a current permit for research and recovery purposes to conduct sea turtle stranding and stranding activities and nest detection of the following sea turtles in Texas:

• Kemp's ridley sea turtle (Lepidochelys kempii)

• Loggerhead sea turtle (Caretta caretta)

• Hawksbill sea turtle (Eretmochelys imbricata)

• Green sea turtle (Chelonia mydas)

• Leatherback sea turtle (Dermochelys coriacea)

Permit TE-236730

Applicant: Timothy Bonner, San Marcos, Texas.

Applicant requests a renewal to a current permit for research and recovery purposes to conduct presence/absence surveys of the following species in Texas:

• Comal Springs riffle beetle (Heterelmis comalensis)

• Devils River minnow (Dionda diaboli)

• Fountain darter (Etheostoma fonticola)

• San Marcos gambusia (Gambusia georgei)

• San Marcos salamander (Eurycea nana)

• Texas wild-rice (Zizania texana)

Permit TE-083956

Applicant: Sandy Wolf, Tucson, Arizona.

Applicant requests a renewal to a current permit for research and recovery purposes to conduct presence/absence surveys of lesser long-nosed bat (Leptonycteris yerbabuenae) and Mexican long-nosed bat (Leptonycteris nivalis) within Arizona.

Permit TE-815409

Applicant: New Mexico Department of Game and Fish, Santa Fe, New Mexico.

Applicant requests an amendment to a current permit for research and recovery purposes to conduct presence/absence surveys of Jemez Mountain salamander (Plethodon neomexicanus) within New Mexico.

Permit TE-35437B

Applicant: U.S.D.A. Forest Service—Santa Fe National Forest, Santa Fe, New Mexico.

Applicant requests a new permit for research and recovery purposes to conduct presence/absence surveys of Jemez Mountain salamander (Plethodon neomexicanus) within New Mexico.

Permit TE-038055

Applicant: University of New Mexico, Albuquerque, New Mexico.

Applicant requests a renewal to a current permit for research and recovery purposes to collect 450 wild eggs from Rio Grande silvery minnows (Hybognathus amarus) in the Rio Grande River, New Mexico.

Permit TE-35438B

Applicant: Anne Bradley, Santa Fe, New Mexico.

Applicant requests a new permit for research and recovery purposes to conduct presence/absence surveys of Jemez Mountain salamander (Plethedon neomexicanus) within New Mexico.

Permit TE-35440B

Applicant: Bureau of Reclamation—Upper Colorado Region, Albuquerque, New Mexico.

Applicant requests a new permit for research and recovery purposes to conduct presence/absence surveys of interior least tern (Sterna antillarum) and southwestern willow flycatcher (Empidonax traillii extimus) within New Mexico.

Permit TE-004439

Applicant: ABQ BioPark, Albuquerque, New Mexico.

Applicant requests a renewal to a current permit for research and recovery purposes to conduct husbandry, propagation, and holding; and collect from the wild (fish and aquatic invertebrates only) for the following species to be held at the BioPark:

• Alamosa springsnail (Tryonia alamosae)

• Colorado pikeminnow (Ptychocheilus lucius)

• Gila topminnow (Poeciliopsis occidentalis)

• Gila trout (Oncorhynchus gilae)

• Green sea turtle (Chelonia mydas)

• Hawksbill sea turtle (Eretmochelys imbricata)

• Kemp's ridley sea turtle (Lepidochelys kempii)

• Loggerhead sea turtle (Caretta caretta)

• Pecos bluntnose shiner (Notropis simus pecosensis)

• Pecos gambusia (Gambusia nobilis)

• Razorback sucker (Xyrauchen texanus)

• Rio Grande silvery minnow (Hybognathus amarus)

• Socorro isopod (Thermosphaeroma thermophilum)

• Socorro springsnail (Pyrgulopsis neomexicana)

Permit TE-146407

Applicant: Belaire Environmental, Inc., Rockport, Texas.

Applicant requests a renewal to a current permit for research and recovery purposes to conduct presence/absence surveys of the following species within Texas:

• Golden-cheeked warbler (Dendroica chrysoparia)

• Loggerhead sea turtle (Caretta caretta)

• Hawksbill sea turtle (Eretmochelys imbricata)

• Green sea turtle (Chelonia mydas)

• Leatherback sea turtle (Dermochelys coriacea)

• Whooping crane (Grus americana)

Permit TE-840727

Applicant: National Park Service—Padre Island National Seashore, Corpus Christi, Texas.

Applicant requests an amendment to a current permit for research and recovery purposes to conduct satellite tracking of adult green (Chelonia mydas) and Kemp's ridley (Lepidochelys kempii) sea turtles within Texas.

Permit TE-028605

Applicant: SWCA, Inc., Flagstaff, Arizona.

Applicant requests an amendment to a current permit for research and recovery purposes to conduct the following activities for southwestern willow flycatcher (Empidonax traillii extimus): cowbird addling within Arizona, California, and Nevada; and blood and feather collection within Arizona, California, Colorado, New Mexico, Texas, Nevada, and Utah.

Permit TE-676811

Applicant: U.S. Fish and Wildlife Service—Region 2, Albuquerque, New Mexico.

Applicant requests an amendment to a current permit for research and recovery purposes to conduct presence/absence surveys of acuña cactus (Echinomastus erectocentrus var. acunensis), Fickeisen plains cactus (Pediocactus peeblesianus var. fickeiseniae), Gierisch mallow (Sphaeralcea gierischii) within Region 2 of the U.S. Fish and Wildlife Service.

Permit TE-168185

Applicant: Cox/McLain Environmental Inc., Austin, Texas.

Applicant requests a renewal to a current permit for research and recovery purposes to conduct presence/absence surveys of the following species within Texas:

• Attwater's greater prairie-chicken (Tympanuchus cupido attwateri)

• Black-capped vireo (Vireo atricapilla)

• Golden-cheeked warbler (Dendroica chrysoparia)

• Houston toad (Bufo houstonensis)

• Interior least tern (Sterna antillarum)

• Northern aplomado falcon (Falco femoralis)

• Piping plover (Charadrius melodus)

• Red-cockaded woodpecker (Picoides borealis)

• Southwestern willow flycatcher (Empidonax traillii extimus)

Permit TE-168185

Applicant: SWCA Inc., Austin, Texas.

Applicant requests a renewal to a current permit for research and recovery purposes to conduct presence/absence surveys of the following species within Texas:

• Austin blind salamander (Eurycea rathbuni)

• Barton Springs salamander (Eurycea sosorum)

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Golden-cheeked warbler (Dendroica chrysoparia)

• Government Canyon Bat Cave meshweaver (Cicurina vespera)

• Government Canyon Bat Cave spider (Neoleptoneta microps)

• Gray bat (Myotis grisescens)

• Ground beetle (Unnamed) (Rhadine exilis)

• Ground beetle (Unnamed) (Rhadine infernalis)

• Helotes mold beetle (Batrisodes venyivi)

• Kretschmarr Cave mold beetle (Texamaurops reddelli)

• Fountain darter (Etheostoma fonticola)

• Houston toad (Bufo houstonensis)

• Indiana bat (Myotis sodalis)

• Interior least tern (Sterna antillarum)

• Madla Cave meshweaver (Cicurina madla)

• Northern aplomado falcon (Falco femoralis)

• Ocelot (Leopardus pardalis)

• Piping plover (Charadrius melodus)

• Red-cockaded woodpecker (Picoides borealis)

• Robber Baron Cave meshweaver (Cicurina baronia)

• San Marcos salamander (Eurycea nana)

• Tooth Cave ground beetle (Rhadine persephone)

• Tooth Cave pseudoscorpion (Tartarocreagris texana)

• Tooth Cave spider (Neoleptoneta (=Leptoneta) myopica)

• Southwestern willow flycatcher (Empidonax traillii extimus)

• Whooping crane (Grus americana)

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: May 30, 2014.
Benjamin N. Tuggle,
Regional Director, Southwest Region.

[FR Doc. 2014-14097 Filed 6-16-14; 8:45 am]

BILLING CODE 4310-55-P